DEPARTMENT OF TRANSPORTATION

Federal Aviation Administration

14 CFR Part 39

[Docket No. FAA-2007-28448; Directorate Identifier 2006-SW-24-AD]

RIN 2120-AA64

Airworthiness Directives; Eurocopter France Model SA-365 N1, AS-365N2, AS 365 N3, SA-366G1, EC 155B, and EC155B1 Helicopters

AGENCY: Federal Aviation Administration, DOT.

ACTION: Notice of proposed rulemaking (NPRM).

SUMMARY: This document proposes superseding an existing airworthiness directive (AD) for the specified Eurocopter France (ECF) model helicopters. That AD currently requires a onetime inspection for end play in the pitch control rod assembly double bearing (bearing) using the tail rotor (T/R) hub control plate, and before further flight, replacing the bearing if end play is present. This action would require checking the T/R gearbox (TGB) oil level before the first flight of the day and maintaining the oil at the maximum level for certain helicopters. Also, this action would require, during each required inspection or at certain specified intervals, ensuring the oil is at the maximum level for certain other model helicopters. Also, this action would require inspecting the magnetic plug for chips at specified intervals. Depending on the quantity of chips found, this action would require either replacing the TGB before further flight or further inspecting for axial play in the T/R hub pitch change control spider (spider). If axial play is found in the spider, before further flight, this AD would require replacing the bearing. This proposal is prompted by the finding that metal chips were not detected on the magnetic plug due to insufficient oil flow because the oil in the TGB was being maintained at the minimum level. The actions specified by the proposed AD are intended to detect metal chips on the magnetic plug, to prevent damage to the bearing resulting in end play, loss of T/R pitch control, and subsequent loss of control of the helicopter.

DATES: Comments must be received on or before August 13, 2007.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: U.S. Department of Transportation, Docket Operations, M-30, West Building Ground Floor, Room W12-140, 1200 New Jersey Avenue, SE., Washington, DC 20590;

• Hand Delivery: Deliver to Mail address above between 9 a.m. and 5 p.m., Monday through Friday, except Federal holidays; or

• Fax: 202-493-2251.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Comments Invited

We invite you to submit any written data, views, or arguments regarding this proposed AD. Send your comments to the address listed under the caption ADDRESSES. Include the docket number “FAA-2007-28448, Directorate Identifier 2006-SW-24-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5527) is located at the plaza level of the Department of Transportation NASSIF Building in Room PL-401 at 400 Seventh Street, SW., Washington, DC. Comments will be available in the AD docket shortly after the DMS receives them.

Discussion

On April 17, 2006, the FAA issued AD 2006-09-10, Amendment 39-14581 (85 FR 25930). That AD requires a onetime inspection for end play in the bearing using the T/R Hub control plate, and before further flight, replacing the bearing if end play is present. That action was prompted by an incident in which a pilot lost T/R pitch control of a helicopter while landing. The requirements of that AD are intended to detect damage to the bearing resulting in end play and prevent loss of T/R pitch control and subsequent loss of control of the helicopter.

Since issuing AD 2006-09-10, ECF has issued Alert Service Bulletin (ASB) 05.00.54, dated August 25, 2006, for Model SA-365N1, AS-365N2, AS 365 N3, to replace ASB 05.00.52, dated February 15, 2006. ECF has also issued ASB 05.37 for Model SA 366G1, dated August 25, 2006, to replace ASB 05.36, dated February 15, 2006. Also, ECF has issued ASB 05A015 for Model EC155B and EC155B1, dated August 25, 2006, to replace ASB 05A013, dated February 15, 2005. ASBs 05.00.52, 05.36, and 05A013 introduced a periodic check for absence of end play in the bearing. These ASBs were revised following the loss of yaw control on an AS365 MB helicopter due to progressive deterioration of the bearing. The metal chips resulting from this deterioration remained trapped in the area around the bearing and were not detected by the magnetic plug of the TGB. Further investigation and analyses revealed that the nondetection of the chips resulting from this deterioration was due to insufficient oil flow. This occurs when the oil level in the TGB is continuously maintained at the “min” level. Therefore, the ASBs specify keeping the TGB oil level at maximum level to ensure that any chips resulting from possible deterioration of the bearing are detected by the magnetic plug. Also, the ASBs specify checking for absence of play in the bearing should chips be detected at the magnetic plug of the TGB.

The European Aviation Safety Agency (EASA) classified these ASBs as mandatory and issued Emergency AD (EAD) No. 2006-0258 R1-E on August 29, 2006. This EAD replaced EAD No. 2006-0051-E, dated February 20, 2006, to ensure the continued airworthiness of these helicopters in France.

These helicopter models are manufactured in France and are type certificated for operation in the United States under the provisions of 14 CFR 21.29 and the applicable bilateral agreement. Under this agreement, EASA has kept the FAA informed of the situation described above. We have examined EASA's findings, evaluated all pertinent information, and determined that AD action is necessary for products of this type design that are certificated for operation in the United States.

This previously described unsafe condition is likely to exist or develop on other helicopters of these same type designs. Therefore, the proposed AD would supersede AD 2006-09-10 to require the following:

• Before the first flight of each day for Model SA-365N1, AS-365N2, AS 365 N3, and SA-366G1 helicopters, check the T/R gearbox (TGB) oil level. An owner/operator (pilot) holding at least a private pilot certificate may perform the visual check of the oil level but must enter compliance into the aircraft maintenance records in accordance with 14 CFR 43.11 and 91.417(a)(2)(v). A pilot may perform these checks because they involve a routine check and no special tools are required.

• If a pilot finds the oil level is not at maximum, before further flight, a qualified mechanic must fill it to the maximum level.

• During each required inspection not to exceed 15 hours time-in-service (TIS) or 7 days, whichever occurs first, if the oil level is not at the maximum level, fill it to the maximum level for Model EC 155B and EC155B1 helicopters.

• Inspect the magnetic plug of the TGB for any chips at intervals not to exceed:

○ 25 hours TIS for helicopters with a magnetic plug without a chip electrical indication in the cockpit, or

○ 100 hours TIS and after any illumination of the TGB “CHIP” warning light for helicopters with a chip electrical indication in the cockpit.

• If you find any chips during the inspection, before further flight, if the quantity of chips on the magnetic plug is at or above the removal criteria, replace the TGB with an airworthy TGB. If the quantity of chips on the magnetic plug is below the removal criteria, inspect for axial play in the T/R hub pitch control change spider (spider). If there is axial play in the spider, replace the bearing with an airworthy bearing.

The actions would be required by following the specified portions of the ASBs described previously.

We estimate that this proposed AD would affect 133 helicopters of U.S. registry, and the proposed actions would require about:

• ½ hour to check the oil level, fill the oil to maximum level, and inspect the magnetic plug for metal chips,

• ½ hour to inspect for end play in the bearing;

• 8 hours to remove and replace the bearing (if necessary) at an average labor rate of $80 per work hour; and

• $2026 for required parts per helicopter.

Based on these figures, we estimate the total cost impact of the proposed AD on U.S. operators to be $365,218, assuming the bearing is replaced on the entire fleet after 1 oil level check, 1 magnetic plug inspection, and 1 end play inspection.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-14581 (85 FR 25930, May 3, 2006), and by adding a new airworthiness directive (AD), to read as follows:

Eurocopter France: Docket No. FAA-2007-28448; Directorate Identifier 2006-SW-24-AD. Supersedes AD 2006-09-10, Amendment 39-14581, Docket No. FAA-2006-24588, Directorate Identifier 2006-SW-07-AD.

Applicability: Model SA-365N1, AS-365N2, AS 365 N3, SA-366G1, EC 155B, and EC155B1 helicopters, with a tail rotor (T/R) pitch control rod assembly double bearing (bearing) installed, certificated in any category.

Compliance: Required as indicated.

To detect metal chips on the magnetic plug to prevent damage to the bearing resulting in end play, loss of T/R pitch control, and subsequent loss of control of the helicopter, do the following:

(a) Before the first flight of each day for Model SA-365N1, AS-365N2, AS 365 N3, and SA-366G1 helicopters, check the T/R gearbox (TGB) oil level. An owner/operator (pilot) holding at least a private pilot certificate may perform the visual check of the oil level but must enter compliance into the aircraft maintenance records in accordance with 14 CFR 43.11 and 91.417(a)(2)(v).

(b) If the oil level is not at maximum during the check in paragraph (a) of this AD, before further flight, a qualified mechanic must fill it to the maximum level.

(c) During each required inspection not to exceed 15 hours time-in-service (TIS) or 7 days, whichever occurs first, if the oil level is not at the maximum level, fill it to the maximum level for Model EC 155B and EC155B1 helicopters.

(d) Inspect the magnetic plug of the TGB for any chips as follows:

(1) At intervals not to exceed 25 hours TIS for helicopters with a magnetic plug without a chip electrical indication in the cockpit, or

(2) At intervals not to exceed 100 hours TIS and after any illumination of the TGB “CHIP” warning light for helicopters with a chip electrical indication in the cockpit.

(e) If you find any chips during the inspection in paragraph (d) of this AD, before further flight, follow the Accomplishment Instructions, paragraph 2.B.2.b), of Eurocopter Alert Service Bulletin No. 05.00.54 for Model SA-365N1, AS-365N2, AS 365 N3; No. 05A015 for Model EC 155B and EC155B1; or No. 05.37 for Model SA-366G1 all dated August 25, 2006 (ASBs), as appropriate for your model helicopter.

(1) If the quantity of chips on the magnetic plug, as referenced in the Operational Procedures, paragraph 2.B.2.b(1) of the ASBs is at or above the removal criteria, before further flight, replace the TGB with an airworthy TGB.

(2) If the quantity of chips on the magnetic plug is below the removal criteria, as referenced in the Operational Procedure, paragraph 2.B.2.b(2) of the ASBs.

(i) Inspect for axial play in the T/R hub pitch control change spider (spider) by following the additional steps in the Operational Procedure, paragraph 2.B.2.b(2) of the ASBs.

(ii) If there is axial play in the spider, before further flight, replace the bearing with an airworthy bearing.

(f) To request a different method of compliance or a different compliance time for this AD, follow the procedures in 14 CFR 39.19. Contact the Manager, Safety Management Group, ATTN: Uday Garadi, Aviation Safety Engineer, FAA, Rotorcraft Directorate, Regulations and Guidance Group, Fort Worth, Texas 76193-0110, telephone (817) 222-5123, fax (817) 222-5961.

(g) Special flight permits will not be issued.

Note: The subject of this AD is addressed in European Aviation Safety Agency Revised Emergency AD No. 2006-0258 R1-E on August 29, 2006, which replaced AD No. 2006-0051-E, dated February 20, 2006.

Issued in Fort Worth, Texas, on June 5, 2007.
Mark R. Schilling,
Acting Manager, Rotorcraft Directorate, Aircraft Certification Service.

[FR Doc. E7-11388 Filed 6-12-07; 8:45 am]

BILLING CODE 4910-13-P